DEPARTMENT OF THE INTERIOR

Bureau of Land Management

[A-180-1430-EU: CACA 46353]

Non-Competitive Sale of Public Lands, Tuolumne County, California

AGENCY: Bureau of Land Management, Interior.

ACTION: Notice of realty action.

SUMMARY: The Bureau of Land Management (BLM) proposes a direct (non-competitive) sale of approximately 1.59 acres of public land in Tuolumne County, California pursuant to Sections 203 and 209 of the Federal Land Policy and Management Act of October 21, 1976 (90 Stat. 2750-51; 43 U.S.C. 1713, and 90 Stat. 2757-58, 43 U.S.C. 1719), and the Federal Land Transaction Facilitation Act of July 25, 2000 (Pub. L., 106-248), at not less than appraised market value. The approved appraised market value has been determined to be $15,000.00 for approximately 1.59 acres. The following described public land has been determined to be suitable for direct (non-competitive) sale to Frank and Ana M. Rocha pursuant to Section 203 of the Federal Land Policy and Management Act of 1976 (FLPMA). This sale will resolve an inadvertent trespass by Frank Rocha.

Mount Diablo Meridian

T. 1 N., R. 14 E.,

Section 27, Lot 7

Containing 1.59 acres.

DATES: For a period of 45 days from the date of publication of this notice in the Federal Register, interested parties may submit comments pertaining to this action. The lands will not be offered for sale until at least 60 days after the date of publications of this notice in the Federal Register.

ADDRESSES: Send written comments concerning the proposed sale to the Bureau of Land Management, 63 Natoma Street, Folsom, California 95630.

FOR FURTHER INFORMATION CONTACT: Additional information pertaining to the land sale, including relevant planning and environmental documentation, may be obtained from the Folsom Field Office at the above address. Jodi Lawson (916) 985-4474, is the BLM contact for this proposed sale.

SUPPLEMENTARY INFORMATION: The public land described in this notice has been determined to be suitable for direct (non-competitive) sale pursuant to Section 203 of the Federal Land Policy and Management Act of 1976 (FLPMA). The potential buyer of the parcel will make application under section 209 of FLPMA, to purchase the mineral estate along with the surface estate. BLM is disposing of this parcel because it is difficult and uneconomic to manage as part of the public lands of the United States. BLM is also proposing the sale to resolve an inadvertent trespass. This proposed sale is consistent with the Folsom Field Office Sierra Planning Area Management Framework Plan (July 1988), and the public interest will be served by offering the parcel for sale. The money from this sale will be used to purchase lands for the BLM, National Park Service, Forest Service, or Fish and Wildlife Service. Any available mineral interests would be conveyed simultaneously with the sale of the land. The mineral interests being offered for conveyance have no known mineral value. Acceptance of a direct sale offer will constitute an application for conveyance of those mineral interests. The applicant will be required to pay a $50.00 non-returnable filing fee for conveyance of the available mineral interests.

The patent, when issued, will reserve a right-of-way thereon to Pacific Gas and Electric Power Company for a power transmission line constructed by the authority of the United States, Act of October 21, 19766 (43 U.S.C. 1701).

The State Director, who may sustain, vacate, or modify this realty action, will review objections to the sale. If there are no objections, this proposal will become the final determination of the Department of the Interior. Publication of this notice in the Federal Register will segregate the public lands from appropriations under the public land laws, including the mining laws, pending disposition of this action, or 270 days from the date of publication of this notice, whichever occurs first. Pursuant to the application to convey the mineral estate, the mineral interests of the United States are segregated by this notice from appropriation under the public land laws, including the mining laws for a period of two years from July 29, 2005.

Dated: May 4, 2005.
D.K. Swickard,
Folsom Field Manager.

[FR Doc. 05-15042 Filed 7-28-05; 8:45 am]

BILLING CODE 4310-AG-P